ENVIRONMENTAL PROTECTION AGENCY

40 CFR Part 52

[Region 2 Docket No. 232, FRL-7084-2]

Approval and Promulgation of Implementation Plans; New York and New Jersey Ozone State Implementation Plans; New York Carbon Monoxide Attainment Demonstration and Designation for Air Quality Planning; Extension and reopening of Comment Periods

AGENCY: Environmental Protection Agency (EPA).

ACTION: Proposed rules; extension and reopening of comment periods.

SUMMARY: Due to the tragic events of September 11, 2001 and the resulting temporary closure of the Region 2 office of the Environmental Protection Agency (EPA) in New York City and the disruption of mail delivery and telephone service, the EPA is extending and reopening the comment period for a number of proposed rules and requesting those who previously commented to resubmit them in the event they were lost in the mail.

DATES: Comments must be received on or before November 15, 2001.

ADDRESSES: All comments should be addressed to: Raymond Werner, Chief, Air Programs Branch, Environmental Protection Agency, Region 2 Office, 290 Broadway, New York, New York 10007-1866.

Copies of the state submittals are available for inspection at the Region 2 office in New York City. Those interested in inspecting these submittals must arrange an appointment in advance by calling (212) 637-4249. Alternatively, appointments may be arranged via e-mail by sending a message to Paul Truchan at truchan.paul@epa.gov or Kirk Wieber at wieber.kirk@epa.gov. The office address is 290 Broadway, Air Programs Branch, 25th Floor, New York, New York 10007-1866.

Copies of the state submittals are also available for inspection at the respective state offices: New York State Department of Environmental Conservation, Division of Air Resources, 625 Broadway, 2nd floor, Albany, New York 12233.

New Jersey Department of Environmental Protection, Office of Air Quality Management, Bureau of Air Pollution Control, 401 East State Street, CN027, Trenton, New Jersey 08625.

FOR FURTHER INFORMATION CONTACT: Paul Truchan, Kirk Wieber or Henry Feingersh, Air Programs Branch, Environmental Protection Agency, 290 Broadway, 25th Floor, New York, New York 10007-1866, (212) 637-4249.

SUPPLEMENTARY INFORMATION: The EPA is extending and reopening the comment period for the following proposals:

—Approval and Promulgation of Implementation Plans, New York Reasonable Further Progress Plans and Transportation Conformity Budgets for 2002, 2005 and 2007, dated August 13, 2001 (66 FR 42479).

—Approval and Promulgation of Implementation Plans, New York's Reasonably Available Control Measure Analysis, dated September 11, 2001 (66 FR 47139).

—Approval and Promulgation of Implementation Plans, New Jersey Motor Vehicle Inspection and Maintenance Program, dated September 11, 2001 (66 FR 47132).

—Approval and Promulgation of Implementation Plans and Designation of Areas for Air Quality Planning Purposes; State of New York, dated August 30, 2001 (66 FR 45806)

—Approval and Promulgation of Implementation Plans; New Jersey Reasonable Further Progress Plans and Transportation Conformity Budgets for 2002, 2005 and 2007, dated September 12, 2001 (66 FR 47419).

—Approval and Promulgation of Implementation Plans; New Jersey Reasonably Available Control Measure Analysis and Additional Ozone Control Measures, dated September 24, 2001 (66 FR 48847).

EPA is extending and reopening the comment period on these proposals until November 15, 2001. Normally the comment period would have ended 30 days from their date of publication. This will provide an opportunity to view the SIP dockets, contact EPA or submit written comments.

EPA is also requesting anyone who has already mailed written comments on the above proposals, to resubmit those comments in order for EPA to be sure that they are received and addressed as part of the rulemaking.

Dated: October 9, 2001.
William J. Muszynski,
Acting Regional Administrator, Region 2.

[FR Doc. 01-25961 Filed 10-15-01; 8:45 am]

BILLING CODE 6560-50-P